DEPARTMENT OF LABOR

Employment and Training Administration

Job Corps: Preliminary Finding of No Significant Impact (FONSI) for the Proposed Job Corps Center at the Gillis W. Long Hansen's Disease Center, 5445 Point Clair Road, Carville, Iberville Parish, LA

AGENCY: Employment and Training Administration, Labor.

ACTION: Preliminary Finding of No Significant Impact (FONSI) for the proposed Job Corps Center to be located at the Gillis W. Long Hansen's Disease Center, 5445 Point Clair Road, Carville, Iberville Parish, Louisiana.

SUMMARY: Pursuant to the Council on Environmental Quality Regulations (40 CFR part 1500-08) implementing procedural provisions of the National Environmental Policy Act (NEPA), the Department of Labor, Employment and Training Administration, Office of Job Corps, in accordance with 29 CFR 11.11(d), gives notice that an Environmental Assessment (EA) has been prepared for a new Job Corps Center to be located in Carville, Louisiana, and that the proposed plan for a new Job Corps Center will have no significant environmental impact. This Preliminary Finding of No Significant Impact (FONSI) will be made available for public review and comment for a period of 30 days.

DATES: Comments must be submitted by April 26, 2000.

ADDRESSES: Any comment(s) are to be submitted to Eric Luetkenhaus, Employment and Training Administration, U.S. Department of Labor, 200 Constitution Avenue, NW, Room N-4659, Washington, DC, 20210, (202) 219-5468 ext. 118 (this is not a toll-free number).

FOR FURTHER INFORMATION CONTACT: Copies of the EA and additional information are available to interested parties by contacting Jose M. de Olivares, Region VI (Six) Office of Job Corps, Federal Building Room 403, 525 Griffin Street, Dallas, TX 75202, (214) 767-2567 (this is not a toll-free number).

SUPPLEMENTARY INFORMATION: This Environmental Assessment (EA) summary addresses the proposed construction of a new Job Corps Center in Carville, Louisiana. The subject property for the proposed Job Corps Center is an approximately 28.8-acre parcel within the approximately 331-acre site formally known as the Gillis W. Long Hansen's Disease Center (GWLHDC), operated by the United States Department of Health and Human Services (HHS). The GWLHDC has been acquired by the State of Louisiana for the purpose of establishing a multi-purpose educational and military training facility. Planned programs include not only a Job Corps, but also the Youth Challenge Program and a military training unit for the Louisiana Army National Guard (LAARNG). The U.S. Department of Labor will be leasing the 28.8 acre Job Corps Center site from the State of Louisiana.

The EA indicates that an existing golf course located on the east side of the GWLHDC complex will be utilized for the 28.8-acre Job Corps Center parcel. The new center will require construction of seven (7) new buildings. The proposed Job Corps Center will provide housing, training, and support services for 272 resident students. The current facility utilization plan includes new dormitories (53,000 square feet), a heavy vocational building (17,300 square feet), a cafeteria building (10,300 square feet), administration/medical/dental offices (11,200 square feet), recreation facilities (18,000 square feet), and classroom facilities (21,600 square feet).

The construction of the Job Corps Center on this proposed site would be a positive asset to the area in terms of environmental and socioeconomic improvements, and long-term productivity. The proposed Job Corps Center will be a new source of employment opportunity for people in the Carville, Louisiana area. The Job Corps program provides basic education, vocational skills training, work experience, counseling, health care and related support services. The program is designed to graduate students who are ready to participate in the local economy.

The proposed project will not have any significant adverse impact on any natural systems or resources. No state or federal threatened or endangered species (proposed or listed) have been on the subject property.

The Job Corps Center construction will not affect any existing historic structures on the GWLHDC, and there are no historic or archeologically sensitive areas on the proposed property parcel.

Air quality and noise levels should not be affected by the proposed development project. Due to the nature of the proposed project, it would not be a source of air pollutants or additional noise, except possibly during construction of the facility. All construction activities will be conducted in accordance with applicable noise and air pollution regulations, and all pollution sources will be permitted in accordance with applicable pollution control regulations. The proposed Job Corps Center is not expected to significantly increase the vehicle traffic in the vicinity.

The proposed project will not have any significant adverse impact on the surrounding water, sewer, and storm water management infrastructure. Currently, drinking water at the site is drawn from two (2) 400-foot wells and pumped to the GWLHDC water treatment plant via pipeline. According to the GWLHDC, the maximum treatment capacity for the water treatment plant is 430,000 gallons per day. The projected usage requirements for all proposed tenants at the GWLHDC, including the Job Corps Center, is less than 200,000 gallons per day. The new buildings to be constructed for the proposed Job Corps Center will be tied in to the existing GWLHDC water distribution system. The current water treatment facility appears more than adequate to support the proposed Job Corps Center, and should only require continued maintenance and cost effective upgrades.

The new buildings to be constructed for the proposed Job Corps Center will also be tied in to the existing GWLHDC sewer system for treatment at the GWLHDC wastewater treatment plant. The wastewater treatment plant currently possesses the capacity to effectively treat up to 150,000 gallons per day. Based upon the maximum estimated site occupancy for all proposed tenants (± 1,250) and using an established figure of 60 gallons of wastewater production per day per person, the volume of wastewater is estimated at approximately 75,500 gallons per day. The current system should be more than capable of handling the volume of wastewater generated by the proposed Job Corps Center and all other proposed uses of the property.

Currently, all garbage and solid wastes generated at the site are disposed under a contract with the GWLHDC. All materials are collected and disposed of in accordance with all federal, state and local regulations. No solid waste is disposed on site. The proposed Job Corps Center will continue to use solid waste contractor to provide waste disposal. While the Job Corps Center may increase the amount of solid waste generated on-site, this increase will be accommodated through additional collection containers (dumpsters) and an increased frequency of collection by the contractor. It is not anticipated that this added capacity will create a significant impact on the ability of regional waste handlers to collect and dispose of waste materials in a safe, timely, and efficient manner. Local off-site approved disposal facilities should not be impacted by the proposed Job Corps Center.

Gulf State Utilities provides the primary supply of electricity (a 4,160 volt power line) to the GWLHDC. The GWLHDC owns and maintains the 208/480 volt distribution lines throughout the facility. An engineering review of the existing electrical infrastructure has determined that the existing electrical capacity on the GWLHDC is not adequate to provide electrical service to the new buildings proposed for the Job Corps Center, so electrical service will be extended to the proposed Job Corps Center property parcel in accordance with all applicable building codes. This is not expected to create any significant impacts to the environment or to the regional utility infrastructure.

The major highway that connects the GWLHDC facility with nearby metropolitan cities is U.S. Highway 10, located east of the Carville property. No public transportation is available to or from the proposed Job Corps Center. Private bus transportation is available from the Greyhound Bus Company with a bus station located in St. Gabriel. Rail transportation is provided by Amtrak with a station located in Baton Rouge. Air transportation is provided by several commercial carriers, including American Eagle, Continental, Delta Northwest, and USAirways, at the Baton Rouge Metropolitan Airport. The construction of a new Job Corps Center will not have any significant impact on the regional transportation infrastructure.

No significant adverse affects to local medical, emergency, fire and police services are anticipated. The primary medical provider located closest to the proposed Job Corps parcel is the Baton Rouge General Medical Center, approximately 15 miles from the proposed Job Corps parcel. The Job Corps Center will have a small medical and dental facility on-site for use by the residents as necessary. Security services at the Job Corps will be provided by the center's security staff, with two (2) personnel on the day shift, three (3) on the evening shift, and two (2) on the night shift. Law enforcement services are provided by the Iberville Parish Sheriff Office Substation, located approximately 5 miles from the proposed project site. The local fire station is the East Iberville Fire Department located in St. Gabriel. The fire department consists of three (3) stations with approximately 35 volunteers. The GWLHDC has entered into a Memorandum of Agreement with the Iberville Volunteer Fire Department for all emergency services.

The proposed project will not have a significant adverse sociological affect on the surrounding community. Similarly, the proposed project will not have a significant adverse affect on demographic and socioeconomic characteristics of the area.

The alternatives considered in the preparation of this FONSI were as follows: (1) No Action; (2) Construction at an Alternate Site; and (3) Continue Construction as Proposed. The “No Action” alternative was not selected. The U.S. Department of Labor's goal of expanding the Job Corps Program by establishing new Job Corps Center in under-served regions of the United States would not be met under this alternative. “Construction at an Alternate Site” was not selected because the Carville site was the only proposed facility in the State of Louisiana, and no alternative sites are available for construction within the State of Louisiana. Due to the suitability of the proposed site for establishment of a new Job Corps Center, and the absence of any identified significant adverse environmental impacts from locating a Job Corps Center on the subject property, the “Continue Construction as Proposed” alternative was selected.

Based on the information gathered during the preparation of the EA, no environmental liabilities, current or historical, were found to exist on the proposed Job Corps Center site. The construction of the Job Corps Center at the Gillis W. Long Hansen's Disease Center, 5445 Point Clair Road, in Carville, Iberville Parish, Louisiana will not create any significant adverse impacts on the environment.

Dated at Washington, DC, this 21st day of March, 2000.
Mary H. Silva,
Director of Job Corps.

[FR Doc. 00-7472 Filed 3-24-00; 8:45 am]

BILLING CODE 4510-30-U